DEPARTMENT OF COMMERCE

National Oceanic and Atmospheric Administration

50 CFR Part 660

[Docket No.070830493-7496-01; I.D. 082806B]

RIN 0648-AV95

Magnuson-Stevens Act Provisions; Fisheries Off West Coast States; Pacific Coast Groundfish Fishery; Biennial Specifications and Management Measures; Correction

AGENCY: National Marine Fisheries Service (NMFS), National Oceanic and Atmospheric Administration (NOAA), Commerce.

ACTION: Final rule; correction.

SUMMARY: NMFS announces corrections to Federal regulations for the West Coast groundfish fishery. This action corrects the latitude/longitude coordinates for the Salmon Troll and South Coast Recreational Yelloweye Rockfish Conservation Areas (RCAs) so that they are published in the proper sequence. This action correctly announces the 2007 tribal allocation amount of Pacific whiting. This action clarifies the application of the Ocean Salmon Conservation Zone in the Pacific whiting fishery. This action corrects some coordinates of the depth contour line approximations that are used to define the RCAs. This action is intended to eliminate any confusion for the public that may have occurred as a result of prior incorrect NMFS publications.

DATES: Effective September 18, 2007. Comments on this rule will be accepted through October 18, 2007.

ADDRESSES: You may submit comments, identified by 0648-AV95 by any of the following methods:

• E-mail: Correction.nwr@noaa.gov. Include 0648-AV95 in the subject line of the message.

• Federal eRulemaking Portal: http://www.regulations.gov. Follow the instructions for submitting comments.

• Fax: 206-526-6736, Attn: Gretchen Arentzen

• Mail: D. Robert Lohn, Administrator, Northwest Region, NMFS, 7600 Sand Point Way NE, Seattle, WA 98115-0070, Attn: Gretchen Arentzen.

FOR FURTHER INFORMATION CONTACT: Gretchen Arentzen (Northwest Region, NMFS), phone: 206-526-6147; fax: 206-526-6736 and; e-mail: gretchen.arentzen@noaa.gov.

SUPPLEMENTARY INFORMATION:

Electronic Access

This final rule also is accessible via the Internet at the Office of the Federal Register's website at http://www.gpoaccess.gov/fr/index.html. Background information and documents are available at the website of the Pacific Fishery Management Council (Council) at http://www.pcouncil.org.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. On September 29, 2006, NMFS published a proposed rule (71 FR 57764) to implement Amendment 16-4 to the Pacific Coast Groundfish FMP and to establish the 2007-2008 harvest specifications and management measures for groundfish taken in the EEZ off the coasts of Washington, Oregon, and California. NMFS accepted public comment on the proposed rule and responded to these comments in the preamble to the final rule, which published in the Federal Register on December 29, 2006 (71 FR 78638).

The 2007-2008 groundfish harvest specifications and management measures added a new potential closed area, the Ocean Salmon Conservation Zone (OSCZ), in the whiting fishery that could be implemented inseason through automatic action. Regulations at § 660.373(c)(3) define the OSCZ as a closed area applying to the whiting fishery; however, it does not state in this part that the OSCZ is closed only through automatic action when NMFS projects the whiting fishery may take in excess of 11,000 Chinook salmon within a calendar year. The process for implementation of this closed area is properly described in § 660.370(d). A cross-reference to this automatic action section is added to the whiting regulations defining the OSCZ to clarify that the OSCZ is only closed after NMFS initiates an automatic management action to implement this closed area based on the projected take of Chinook salmon.

A range of Pacific whiting (whiting) harvest specifications and management measures was adopted in the 2007-2008 harvest specifications and management measures for groundfish, and final 2007 specifications and management measures for whiting were adopted in March 2007. NMFS published a final rule establishing the 2007 whiting harvest specifications and management measures on April 18, 2007 (72 FR 19390), which included the level of the acceptable biological catch (ABC), optimum yield (OY), tribal allocation, and allocations for the nontribal commercial whiting sectors. The final 2007 tribal allocation was set according to an abundance-based sliding scale method, where the tribal allocation varies with the U.S. whiting optimum yield (OY) ranging from 14 percent (or less) of the U.S. OY when OY levels are above 250,000 mt, to 17.5 percent of the U.S. OY when the OY level is at or below 145,000 mt. NMFS had explained this method in the preamble to the proposed rule for the 2007-2008 groundfish harvest specifications and management measures. The tribal allocation was correctly expressed in the preamble to that final rule as 32,500 mt, however NMFS did not publish that amount in § 660.385(e), leaving the outdated 2006 tribal whiting allocation of 35,000 mt in current regulations. This rule corrects 660.385(e) by inserting the 2007 tribal allocation.

The preambles to the proposed and final rules for the 2007-2008 groundfish harvest specifications and management measures described the Yelloweye Rockfish Conservation Areas (YRCAs), closed areas intended to protect overfished species; however, the regulatory text published the latitude and longitude coordinates defining the Salmon Troll YRCA and the South Coast Recreational YRCA in the incorrect sequence, resulting in closed areas that are not the same size or shape as those analyzed by NMFS, recommended by the Council, and discussed in the preamble to the final rule. This correction re-publishes the YRCA latitude and longitude coordinates in the correct sequence to form the closed areas intended to protect yelloweye rockfish.

The 2007-2008 groundfish harvest specifications and management measures added a new Rockfish Conservation Area (RCA) boundary line approximating the 180-fm (32-m) depth contour off California with modifications to allow fishing for petrale sole. After publication of the proposed rule, the state of California requested adjustments to the latitude and longitude coordinates defining the petrale-modified 180-fm (329-m) boundary line to eliminate cross-overs with other neighboring boundary lines and to be consistent with boundaries of groundfish essential fish habitat closed areas off California. However, these changes from the proposed rule were not made and the original incorrect coordinates were published in the final rule for the 2007-2008 groundfish harvest specifications and management measures. This correction publishes the latitude and longitude coordinates defining the petrale-modified 180-fm (329-m) boundary line at § 660.394(f) that the state of California proposed and the Council recommended.

The 2007-2008 groundfish harvest specifications and management measures revised coordinates defining the RCA boundary line approximating the petrale-modified 250-fm (457-m) depth contour to eliminate cross-overs with neighboring RCA boundary lines. Coordinates defining this RCA boundary line, published at § 660.394(r), contained errors off the Washington coast and were published with these errors in both the proposed and final rule. The errors in the coordinates defining the RCA boundary line were introduced when transferring the latitude and longitude coordinates into the format necessary for publication in the Federal Register and eliminated a portion of petrale sole fishing grounds and opened an area of known rockfish abundance. This correction publishes the latitude and longitude coordinates defining the petrale-modified 250-fm (457-m) boundary line at § 660.394(r) that the state of Washington proposed and the Council recommended.

Classification

The Assistant Administrator for Fisheries, NOAA, finds good cause to waive the requirement to provide prior notice and opportunity for public comment on this action pursuant to 5 U.S.C. 553(b)(B); providing prior notice and opportunity for comment would be unnecessary and contrary to the public interest.

This correction document revises § 660.373(c)(3) of the CFR so that the description of the OSCZ is consistent with the automatic action regulations, at § 660.370(d), for implementing the OSCZ. Allowing inconsistencies to remain in the Federal Register would be contrary to the public interest. It would leave language in the CFR that implies that a permanent closure is in place, even though the closure only exists if it is implemented through automatic management action. This automatic action will be taken when NMFS projects that the whiting fishery may take in excess of 11,000 Chinook salmon within a calendar year. The OSCZ was analyzed in the 2007-2008 groundfish specifications and management measures environmental impact statement, and is clearly described in the preambles to the proposed and final rules (71 FR 57764, 71 FR 78638) as a closure that NMFS can implement for the whiting fishery if Chinook salmon take is anticipated to exceed acceptable levels. Prior notice and opportunity for comment was provided earlier because both the EIS and the proposed rule were made available for public comment, and no comments were received pertaining to the application of the OSCZ. Also, this correction clarifies language at § 660.373(c)(3) to make it consistent with existing regulations at § 660.370(d) and does not change the intent, meaning, or application of the OSCZ closure. Leaving inconsistencies in the regulatory language is contrary to the public interest because it is confusing to the public and would leave language in the CFR that implies that a permanent closure is in place, even though the closure only exists if it is implemented through automatic management action; therefore, NOAA finds good cause to waive prior notice and opportunity for public comment.

This correction document revises § 660.385(e) of the CFR so that the 2007 tribal allocation of Pacific whiting is consistent with the allocation proposed by the tribal representative on the Council, recommended by the Council and that NMFS intended to implement. This correction implements an action that has already been made available for public review and comment in the preamble to the whiting ABC/OY final rule (71 FR 19390). By implementing the correct tribal allocation, NMFS is implementing the 2007 tribal whiting allocation determined by the methodology described in the preamble to the 2007-2008 harvest specifications and management measures proposed rule, and listed in the preamble to the whiting ABC/OY final rule, which was based on recommendations from the Makah tribe and the Council. The numerical allocation, however, was not changed in the regulatory text, so the 2006 tribal allocation is still listed in the CFR rather than the 2007 allocation. The interested public is aware of the current 2007 tribal whiting allocation. The Makah tribe is aware of the appropriate 2007 tribal whiting allocation and plans to stay within the 2007 allocation which they proposed; therefore, prior notice and opportunity for public comment is unnecessary.

This correction document revises § 660.390(c) and (d) of the CFR so that coordinates for the Salmon Troll and South Coast Recreational Yelloweye Rockfish Conservation Areas (YRCAs) are listed in the correct sequence to form rectangular closed areas. Each of these closed areas is defined by four coordinate points. If coordinates are connected in the sequence listed prior to this correction, they form bowtie shaped polygons that close approximately half of the area of the rectangular closed areas. When these points are connected in the correct sequence, they form rectangular closed areas, as illustrated in the EIS, described in the preamble to the final rule, recommended by the Council, and approved by NMFS for this action. A public notice and comment period was available for the EIS and final rule, and no comments were received pertaining to the proposed rectangular shape of the YRCAs. The YRCAs are designed to prevent the incidental catch of yelloweye rockfish, an overfished groundfish species that co-occurs with other, more abundant groundfish stocks. Allowing the YRCA coordinates to remain in § 660.390 in the incorrect sequence actually allows, rather than prevents, fishing in areas of yelloweye rockfish abundance, which is contrary to the public interest. The yelloweye OY is very low so that if even a small amount of excess incidental catch of yelloweye rockfish were to occur, all of the commercial and recreational hook-and-line groundfish fisheries north of Cape Mendocino, California, fisheries that take yelloweye incidentally, would have to be restricted or closed early to ensure that the 2007 yelloweye rockfish OY is not exceeded. Such restrictions and/or closures could be expected to ultimately result in significant revenue and job losses in coastal communities. By implementing these corrections as early as possible in the 2007 fishery, NMFS is implementing the YRCAs it had described in the preambles to the proposed and final rules for this action, based on recommendations from the Council. This correction is intended to ensure that yelloweye rockfish catch is kept within its allowable harvest levels, so that NMFS may meet its obligations under the Magnuson-Stevens Act to rebuild overfished stocks and to achieve the optimum yield from the fishery. Delay in publication of this rule could cause NMFS to fail to meet these obligations and would be contrary to the public interest.

This correction document revises § 660.394(f) and (r) of the CFR so that coordinates for the petrale-modified 180-fm (329-m) boundary line and the petrale-modified 250-fm (457-m) boundary line are published correctly to protect overfished species while allowing targeting opportunities for more abundant species. The state of California recommended revising the petrale-modified 180-fm (329-m) boundary line after NMFS had published it in the proposed rule, to improve consistency with the boundaries of other neighboring area restrictions, including essential fish habitat closed areas. These changes, however, were not included in the final rule. These modifications change some latitude and longitude coordinates, and remove some coordinate points; however, the corrected line is similar to the line that was published in the preambles to the proposed and final rule. For clarity, the petrale-modified 180-fm (329-m) boundary line is re-published in its entirety in this correction. Providing prior notice and opportunity for public comment would be contrary to the public interest, as it would allow regulations to remain in the CFR that are confusing due to inconsistencies and overlaps between the groundfish RCA and other area restrictions, including essential fish habitat closed areas. The petrale-modified 250-fm (457-m) boundary line was published in the proposed and final rule with 13 incorrect latitude and longitude coordinates in the portion of the line that lies off the northern Washington coast, south of Cape Alava. These incorrect coordinates moved the depth contour approximation shoreward into shallower waters, with one coordinate bringing the 250-fm (457-m) line to a depth shallower than 70-fm (128-m) which produces an irrational result. Providing prior notice and opportunity for public comment would be contrary to the public interest because allowing the incorrect coordinates to remain in the CFR would allow fishing in an area of shallow water seaward of the RCA, at depths associated with high occurrence of overfished species. Restricting fishing in areas where overfished species are found is one of the primary tools available for keeping fishing mortality of overfished species within the optimum yields. Allowing the incorrect RCA boundary lines to remain in § 660.394 would be contrary to the public interest as it allows, rather than prevents, fishing in areas of overfished rockfish abundance, thereby undermining the intent of the rule. Furthermore, it would create confusion due to inconsistencies between the coordinates published in the Federal Register and coordinates available on the NMFS Northwest Region website for use in navigation software. If excessive incidental catch of overfished rockfish species were to occur, commercial and recreational groundfish fisheries that take overfished groundfish species incidentally would have to be restricted and possibly be closed early to ensure that the 2007 OYs for overfished rockfish species would not be exceeded. Such restrictions and/or closures could be expected to ultimately result in significant revenue and job losses in coastal communities. Providing prior notice and opportunity for public comment is contrary to the public interest because delay in implementation of this correction could result in excess harvest of overfished species that are found in the area that should be closed, which could result in exceeding the rebuilding targets, premature closure of the fishery, or both. This would prevent NMFS from meeting its obligations to rebuild overfished species or manage the fishery to achieve optimum yield.

For the reasons discussed above, good cause also exists to waive the 30 day delay in effectiveness requirement under 5 U.S.C. 553 (d)(3).

List of Subjects in 50 CFR Part 660

Fisheries, Fishing, Indian fisheries.

Dated: September 12, 2007.
Samuel D. Rauch III,
Deputy Assistant Administrator for Regulatory Programs, National Marine Fisheries Service.

For reasons explained in the preamble, 50 CFR part 660 is corrected by making the following correcting amendments:

PART 660—FISHERIES OFF WEST COAST STATES

1. The authority citation for part 660 continues to read as follows:

Authority: 16 U.S.C. 1801 et seq.

2. In § 660.373, paragraph (c)(3) is revised to read as follows:

§ 660.373 Pacific whiting (whiting) fishery management.

* * * * *

(c) * * *

(3) Ocean Salmon Conservation Zone. All waters shoreward of a boundary line approximating the 100 fm (183 m) depth contour. Latitude and longitude coordinates defining the boundary line approximating the 100 fm (183 m) depth contour are provided at § 660.393(a). This closure will be implemented through automatic action, defined at 660.370(d), when NMFS projects the Pacific whiting fishery may take in excess of 11,000 Chinook within a calendar year.

* * * * *

3. In § 660.385, paragraph (e) is revised to read as follows:

§ 660.385 Washington coastal tribal fisheries management measures.

* * * * *

(e) Pacific whiting. The tribal allocation is 32,500 mt.

* * * * *

4. In § 660.390, paragraphs (c)(3) and (4), and (d)(3) and (4) are revised to read as follows:

§ 660.390 Groundfish conservation areas.

* * * * *

(c) * * *

(3) 48°02.00′ N. lat., 125°16.50′ W. long.;

(4) 48°00.00′ N. lat., 125°16.50′ W. long.; and connecting back to 48°00.00′ N. lat., 125°14.00′ W. long.

* * * * *

(d) * * *

(3) 46°55.00′ N. lat., 124°49.00′ W. long.;

(4) 46°58.00′ N. lat., 124°49.00′ W. long.; and connecting back to 46°58.00′ N. lat., 124°48.00′ W. long.

* * * * *

5. In § 660.394, paragraphs (f), and (r)(6) through (18) are revised to read as follows:

§ 660.394 Latitude/longitude coordinates defining the 180 fm (329 m) through 250 fm (457 m) depth contours.

* * * * *

(f) The 180 fm (329 m) depth contour between 42° N. lat. and the U.S. border with Mexico, modified to allow fishing in petrale sole areas, is defined by straight lines connecting all of the following points in the order stated:

(1) 42°00.00′ N. lat., 124°36.37′ W. long.;

(2) 41°47.79′ N. lat., 124°29.48′ W. long.;

(3) 41°21.16′ N. lat., 124°28.97′ W. long.;

(4) 41°11.30′ N. lat., 124°22.86′ W. long.;

(5) 41°06.51′ N. lat., 124°23.07′ W. long.;

(6) 40°55.20′ N. lat., 124°27.46′ W. long.;

(7) 40°53.95′ N. lat., 124°26.04′ W. long.;

(8) 40°49.96′ N. lat., 124°26.04′ W. long.;

(9) 40°44.49′ N. lat., 124°30.81′ W. long.;

(10) 40°40.58′ N. lat., 124°32.05′ W. long.;

(11) 40°38.82′ N. lat., 124°29.45′ W. long.;

(12) 40°35.65′ N. lat., 124°30.34′ W. long.;

(13) 40°37.39′ N. lat., 124°37.00′ W. long.;

(14) 40°36.03′ N. lat., 124°39.97′ W. long.;

(15) 40°31.42′ N. lat., 124°40.85′ W. long.;

(16) 40°30.00′ N. lat., 124°37.12′ W. long.;

(17) 40°27.36′ N. lat., 124°37.14′ W. long.;

(18) 40°24.81′ N. lat., 124°35.82′ W. long.;

(19) 40°22.45′ N. lat., 124°30.94′ W. long.;

(20) 40°14.00′ N. lat., 124°32.90′ W. long.;

(21) 40°10.00′ N. lat., 124°23.56′ W. long.;

(22) 40°06.67′ N. lat., 124°19.08′ W. long.;

(23) 40°08.10′ N. lat., 124°16.71′ W. long.;

(24) 40°05.90′ N. lat., 124°17.77′ W. long.;

(25) 40°02.80′ N. lat., 124°16.28′ W. long.;

(26) 40°01.98′ N. lat., 124°12.99′ W. long.;

(27) 40°01.52′ N. lat., 124°09.83′ W. long.;

(28) 39°58.55′ N. lat., 124°12.32′ W. long.;

(29) 39°55.74′ N. lat., 124°07.37′ W. long.;

(30) 39°42.78′ N. lat., 124°02.11′ W. long.;

(31) 39°34.76′ N. lat., 123°58.51′ W. long.;

(32) 39°34.22′ N. lat., 123°56.82′ W. long.;

(33) 39°32.98′ N. lat., 123°56.43′ W. long.;

(34) 39°32.14′ N. lat., 123°58.83′ W. long.;

(35) 39°07.79′ N. lat., 123°58.72′ W. long.;

(36) 39°00.99′ N. lat., 123°57.56′ W. long.;

(37) 39°00.05′ N. lat., 123°56.83′ W. long.;

(38) 38°57.50′ N. lat., 123°57.04′ W. long.;

(39) 38°51.19′ N. lat., 123°55.70′ W. long.;

(40) 38°47.29′ N. lat., 123°51.12′ W. long.;

(41) 38°45.48′ N. lat., 123°51.36′ W. long.;

(42) 38°43.24′ N. lat., 123°49.91′ W. long.;

(43) 38°41.61′ N. lat., 123°47.50′ W. long.;

(44) 38°35.75′ N. lat., 123°43.76′ W. long.;

(45) 38°34.92′ N. lat., 123°42.45′ W. long.;

(46) 38°19.84′ N. lat., 123°31.96′ W. long.;

(47) 38°14.38′ N. lat., 123°25.51′ W. long.;

(48) 38°09.39′ N. lat., 123°24.39′ W. long.;

(49) 38°10.02′ N. lat., 123°26.73′ W. long.;

(50) 38°04.11′ N. lat., 123°31.62′ W. long.;

(51) 38°02.11′ N. lat., 123°31.11′ W. long.;

(52) 38°00.23′ N. lat., 123°29.51′ W. long.;

(53) 38°00.00′ N. lat., 123°28.72′ W. long.;

(54) 37°58.07′ N. lat., 123°26.97′ W. long.;

(55) 37°50.80′ N. lat., 123°24.47′ W. long.;

(56) 37°44.21′ N. lat., 123°11.38′ W. long.;

(57) 37°35.67′ N. lat., 123°01.86′ W. long.;

(58) 37°23.42′ N. lat., 122°56.78′ W. long.;

(59) 37°23.23′ N. lat., 122°53.78′ W. long.;

(60) 37°13.97′ N. lat., 122°49.91′ W. long.;

(61) 37°11.00′ N. lat., 122°45.61′ W. long.;

(62) 37°07.00′ N. lat., 122°42.89′ W. long.;

(63) 37°01.10′ N. lat., 122°37.50′ W. long.;

(64) 36°57.81′ N. lat., 122°28.29′ W. long.;

(65) 36°59.83′ N. lat., 122°25.17′ W. long.;

(66) 36°57.21′ N. lat., 122°25.17′ W. long.;

(67) 36°57.81′ N. lat., 122°21.73′ W. long.;

(68) 36°56.10′ N. lat., 122°21.51′ W. long.;

(69) 36°55.17′ N. lat., 122°16.94′ W. long.;

(70) 36°52.06′ N. lat., 122°12.12′ W. long.;

(71) 36°47.63′ N. lat., 122°07.40′ W. long.;

(72) 36°47.37′ N. lat., 122°03.10′ W. long.;

(73) 36°24.14′ N. lat., 121°59.45′ W. long.;

(74) 36°21.82′ N. lat., 122°00.80′ W. long.;

(75) 36°19.47′ N. lat., 122°05.28′ W. long.;

(76) 36°14.67′ N. lat., 122°00.88′ W. long.;

(77) 36°09.34′ N. lat., 121°42.61′ W. long.;

(78) 36°00.00′ N. lat., 121°35.77′ W. long.;

(79) 35°56.78′ N. lat., 121°32.69′ W. long.;

(80) 35°52.71′ N. lat., 121°32.32′ W. long.;

(81) 35°51.23′ N. lat., 121°30.54′ W. long.;

(82) 35°46.07′ N. lat., 121°29.75′ W. long.;

(83) 35°34.08′ N. lat., 121°19.83′ W. long.;

(84) 35°31.41′ N. lat., 121°14.80′ W. long.;

(85) 35°15.42′ N. lat., 121°03.47′ W. long.;

(86) 35°07.21′ N. lat., 120°59.05′ W. long.;

(87) 35°07.45′ N. lat., 120°57.09′ W. long.;

(88) 34°44.29′ N. lat., 120°54.28′ W. long.;

(89) 34°44.24′ N. lat., 120°57.62′ W. long.;

(90) 34°40.04′ N. lat., 120°53.95′ W. long.;

(91) 34°21.16′ N. lat., 120°33.11′ W. long.;

(92) 34°19.15′ N. lat., 120°19.78′ W. long.;

(93) 34°23.24′ N. lat., 120°14.17′ W. long.;

(94) 34°21.47′ N. lat., 119°54.68′ W. long.;

(95) 34°09.79′ N. lat., 119°44.51′ W. long.;

(96) 34°07.34′ N. lat., 120°06.71′ W. long.;

(97) 34°09.43′ N. lat., 120°18.34′ W. long.;

(98) 34°12.50′ N. lat., 120°18.34′ W. long.;

(99) 34°12.50′ N. lat., 120°26.11′ W. long.;

(100) 34°14.02′ N. lat., 120°29.61′ W. long.;

(101) 34°09.55′ N. lat., 120°37.83′ W. long.;

(102) 34°05.35′ N. lat., 120°36.23′ W. long.;

(103) 34°02.21′ N. lat., 120°36.23′ W. long.;

(104) 34°02.21′ N. lat., 120°33.94′ W. long.;

(105) 33°56.82′ N. lat., 120°28.30′ W. long.;

(106) 33°50.40′ N. lat., 120°09.94′ W. long.;

(107) 33°38.21′ N. lat., 119°59.90′ W. long.;

(108) 33°35.35′ N. lat., 119°51.95′ W. long.;

(109) 33°35.99′ N. lat., 119°49.13′ W. long.;

(110) 33°42.74′ N. lat., 119°47.81′ W. long.;

(111) 33°51.63′ N. lat., 119°52.94′ W. long.;

(112) 33°51.62′ N. lat., 119°47.94′ W. long.;

(113) 33°54.67′ N. lat., 119°47.94′ W. long.;

(114) 33°57.84′ N. lat., 119°30.94′ W. long.;

(115) 33°54.11′ N. lat., 119°30.94′ W. long.;

(116) 33°54.11′ N. lat., 119°25.94′ W. long.;

(117) 33°58.14′ N. lat., 119°25.94′ W. long.;

(118) 33°59.31′ N. lat., 119°20.02′ W. long.;

(119) 34°02.91′ N. lat., 119°15.38′ W. long.;

(120) 33°59.04′ N. lat., 119°03.02′ W. long.;

(121) 33°57.88′ N. lat., 118°41.69′ W. long.;

(122) 33°50.89′ N. lat., 118°37.78′ W. long.;

(123) 33°39.16′ N. lat., 118°18.24′ W. long.;

(124) 33°35.44′ N. lat., 118°17.31′ W. long.;

(125) 33°31.37′ N. lat., 118°10.39′ W. long.;

(126) 33°32.71′ N. lat., 117°52.05′ W. long.;

(127) 32°58.94′ N. lat., 117°20.06′ W. long.; and

(128) 32°35.48′ N. lat., 117°28.83′ W. long.

* * * * *

(r) * * *

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°46.00′ N. lat., 125°06.00′ W. long.; and

(18) 47°44.50′ N. lat., 125°07.50′ W. long.

* * * * *

[FR Doc. E7-18364 Filed 9-17-07; 8:45 am]

BILLING CODE 3510-22-S